DEPARTMENT OF LABOR

Office of the Secretary

Agency Information Collection Activities; Submission for OMB Review; Comment Request; Well-Being Supplement to the American Time Use Survey

ACTION: Notice.

SUMMARY: The Department of Labor (DOL) is submitting the Bureau of Labor Statistics (BLS) sponsored information collection request (ICR) titled, “Well-being Supplement to the American Time Use Survey,” to the Office of Management and Budget (OMB) for review and approval for use in accordance with the Paperwork Reduction Act (PRA) of 1995 (44 U.S.C. 3501 et seq.).

DATES: Submit comments on or before November 25, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Bureau of Labor Statistics (BLS), Office of Management and Budget, Room 10235, Washington, DC 20503, Telephone: 202-395-6929/Fax: 202-395-6881 (these are not toll-free numbers), e-mail: OIRA_submission@omb.eop.gov.

FOR FURTHER INFORMATION: Contact Michel Smyth by telephone at 202-693-4129 (this is not a toll-free number) or by e-mail at DOL_PRA_PUBLIC@dol.gov.

SUPPLEMENTARY INFORMATION: This ICR seeks approval for a new information collection. The American Time Use Survey (ATUS) is the first national Federally administered continuous survey on time use in the United States. The ATUS measures, for example, time spent with children, working, sleeping, or doing leisure activities. The Well-being Module questions, if approved, would be asked immediately after the ATUS and would follow up on some of the information ATUS respondents provide in their time diary. The Well-being Module would collect information about how people experience their time, specifically how happy, tired, sad, stressed, and in pain they felt the day before the interview. Respondents would be asked these questions about three randomly selected activities from the activities reported in the ATUS time diary. The time diary refers to the core part of the ATUS, in which respondents report the activities they did from 4 a.m. on the day before the interview to 4 a.m. on the day of the interview. A few activities, such as sleeping and private activities, will never be selected. The module also would collect data on whether people were interacting with anyone while doing the selected activities and how meaningful the activities were to them. Some general health questions, a question about overall life satisfaction, and a question about respondents' overall emotional experience the day before also would be asked. The proposed Well-being Module is nearly identical to a module that was collected in 2010 under the ATUS, approved under OMB Number (1220-0175).

Data from the proposed Wellbeing Module will support the BLS mission of providing relevant information on economic and social issues. The data also will closely support the mission of the module sponsor, the National Institute on Aging (NIA) of the National Institutes of Health, to improve the health and well-being of older Americans.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on July 13, 2011 (76 FR 41302).

Interested parties are encouraged to send comments to the OMB, Office of Information and Regulatory Affairs at the address shown in the ADDRESSES section within 30 days of publication of this notice in the Federal Register. In order to help ensure appropriate consideration, comments should reference OMB ICR Reference Number 201108-1220-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics (BLS).

Title of Collection: Well-being Supplement to the American Time Use Survey.

OMB ICR Reference Number: 201108-1220-001.

Affected Public: Individuals or Households.

Total Estimated Number of Respondents: 12,800.

Total Estimated Number of Responses: 12,800.

Total Estimated Annual Burden Hours: 1067.

Total Estimated Annual Other Costs Burden: $0.

Dated: October 20, 2011.
Michel Smyth,
Departmental Clearance Officer.

[FR Doc. 2011-27699 Filed 10-25-11; 8:45 am]

BILLING CODE 4510-24-P